DEPARTMENT OF HOMELAND SECURITY

Transportation Security Administration

RIN 1652-ZA18

TSA Pre✓™ Application Program Fee

AGENCY: Transportation Security Administration, DHS.

ACTION: Notice.

SUMMARY: The Transportation Security Administration (TSA) announces the establishment of a fee for applicants of the TSA Pre✓™ Application Program. Members of the public may apply to this TSA program by voluntarily providing biometric and biographic information and paying a fee. TSA will use these fees from applicants to fund selected activities of the TSA Pre✓™ Application Program, including the cost of conducting the security threat assessment and adjudicating the application. Successful applicants will be eligible to receive expedited screening at participating U.S. airport security checkpoints, including use of a dedicated screening lane and more limited physical screening.

DATES: This notice is effective December 4, 2013.

FOR FURTHER INFORMATION CONTACT: Hao-y Froemling, Program Management Division, Office of Intelligence and Analysis (OIA), TSA-10, Transportation Security Administration, 601 South 12th Street, Arlington, VA 20598-0610; facsimile (703) 603-0409; or email at TSAPrecheckEnrollment@tsa.dhs.gov.

SUPPLEMENTARY INFORMATION:

Availability of Notice Document

(1) Searching the electronic Federal Docket Management System (FDMS) Web page at http://www.regulations.gov;

(2) Accessing the Government Printing Office's Web page at http://www.gpo.gov/fdsys/browse/collection.action?collectionCode=FR to view the daily published Federal Register edition; or accessing the “Search the Federal Register by Citation” in the “Related Resources” column on the left, if you need to do a Simple or Advanced search for information, such as a type of document that crosses multiple agencies or dates; or

(3) Visiting TSA's Security Regulations Web page at http://www.tsa.gov and accessing the link for “Stakeholders” at the top of the page, then the link “Research Center” in the left column.

In addition, copies are available by writing or calling the individual in the FOR FURTHER INFORMATION CONTACT section.

I. Summary

TSA Pre✓™ is a passenger prescreening initiative for low risk passengers who are eligible to receive expedited screening at participating U.S. airport security checkpoints.¹ Currently, travelers eligible for TSA Pre✓™ screening include members of U.S. Customs and Border Protection (CBP) trusted traveler programs, as well as other groups (such as elite frequent flyers) who are invited to apply directly to TSA Pre✓™.

¹ Passengers who are eligible for expedited screening through a dedicated TSA Pre✓™ lane typically will receive more limited physical screening, e.g., will be able to leave on their shoes, light outerwear, and belt, to keep their laptop in its case, and to keep their 3-1-1 compliant liquids/gels bag in a carry-on. TSA Pre✓™ lanes soon will be available at 100 airports nationwide. See http://www.tsa.gov/press/releases/2013/03/28/tsa-pre%E2%9C%93%E2%84%A2-now-available-40-airports-nationwide-expedited-screening-begins and http://www.tsa.gov/press/releases/2013/09/04/tsa-precheck-expands-60-additional-airports.

As part of DHS efforts to implement trusted traveler programs, and to expand the population of travelers eligible for TSA Pre✓™ screening, TSA is developing a trusted traveler program (to be called “TSA Pre✓™ Application Program”) for air travel originating at U.S. airports. The public is invited to apply directly to TSA for enrollment through the TSA Pre✓™ Application Program. Travelers who are enrolled through the TSA Pre✓™ Application Program are eligible to receive TSA Pre✓™ screening at participating airports. Travelers interested in enrolling in the TSA Pre✓™ Application Program will provide the necessary biographic and biometric information ² and pay a non-refundable fee of $85.00 for TSA to conduct security threat assessments. The results will be used by TSA to decide if an individual poses a low risk to transportation or national security. TSA will provide applicants who meet the standards of the security threat assessment a Known Traveler Number (KTN).³ The security threat assessments and KTNs are valid for five years. It is expected that after five years, participants may renew their KTN by successfully undergoing another security threat assessment and paying the applicable fee through the TSA Pre✓™ Application Program.

² Further information on information collection can be found in Intent To Request Approval From OMB of One New Public Collection of Information: TSA Pre✓™ Trusted Traveler Program; Republication, 78 FR 45256 (July 26, 2013) (republished for technical correction). The biographic information that applicants will submit includes, for example: Name, gender, current contact information, date and place of birth, and identity verification information, such as a driver's license or passport. The biometric information from applicants will include fingerprints.

³ The Known Traveler Number is a component of Secure Flight Passenger Data (SFPD), both of which are defined in TSA Secure Flight regulations at 49 CFR 1560.3. See also the Secure Flight regulations at 49 CFR part 1560.

TSA Pre✓™ Application Program participants who provide their KTNs to airlines when they make their flight reservations may be eligible for expedited screening in the TSA Pre✓™ lane at participating airports. Enrollment into the TSA Pre✓™ Application Program, and use of the associated KTN, does not guarantee that an individual will receive expedited screening at airport security checkpoints. TSA retains a component of randomness to maintain the element of unpredictability for security purposes, and travelers with valid KTNs may be selected for standard physical screening on occasion. In addition, although the number of TSA Pre✓™ lanes at U.S. airports is increasing, TSA Pre✓™ is not yet available for all airports, all airlines, or all flights.

II. TSA Pre✓™

TSA is required to provide for the screening of all passengers and property in air transportation.⁴ TSA screens every passenger and all accessible property before the passenger may enter the sterile area of the airport and board a flight. TSA screens more than 1.7 million passengers each day at more than 450 airports nationwide. TSA employs risk-based procedures to screen all individuals who pass through the TSA security checkpoints.

⁴ See 49 U.S.C. 44901(a).

TSA is undertaking efforts to focus its resources and improve the passenger experience at security checkpoints by applying new intelligence-driven, risk-based screening procedures and enhancing its use of technology. This approach is based on, among other things, the following premises:

• The majority of airline passengers are low risk.

• By having passengers voluntarily provide more information about themselves, TSA can better segment the population in terms of risk.

• TSA can better increase security by focusing on unknowns; and expediting known and trusted travelers.

TSA has taken a number of actions to implement its intelligence-driven, risk-based approach to aviation security. These actions include expedited screening for passengers 12-years old or younger or 75-years old or older and for U.S. military personnel. These steps enhance aviation security by permitting TSA to focus its limited security resources on passengers who are more likely to pose a threat to civil aviation, while also facilitating and improving the commercial aviation travel experience for the public.

TSA Pre✓™ expedited screening for commercial airline passengers is a key component of this intelligence-driven, risk-based approach to aviation security. Persons generally eligible for TSA Pre✓™ include those who are elite members of participating airlines' frequent flyer programs or who participate in trusted traveler programs recognized by the U.S. Government. These trusted traveler programs include the CBP trusted traveler programs ⁵ such as Global Entry, NEXUS, and Secure Electronic Network for Travelers Rapid Inspection (SENTRI).⁶ Under such programs, following a background investigation, eligible individuals receive an identifying number from the respective program. An airline passenger may provide that identifying number in the KTN field when making a flight reservation. Airlines provide the KTN, along with other Secure Flight Passenger Data (SFPD), to TSA through the Secure Flight program.⁷ TSA then compares the submitted information against a list of trusted traveler program participants received from the program sponsor. If the passenger's identifying information matches the entry on the list of trusted travelers, the passenger is eligible for TSA Pre✓™ expedited screening.

⁵ See www.cbp.gov/xp/cgov/travel/trusted_traveler/.

⁶ Currently, only U.S. citizens in these programs and Canadian citizens in the NEXUS program are eligible for TSA Pre✓™ expedited screening.

⁷ SFPD consists of name, gender, date of birth, passport information (if available), redress number (if available), KTN (if available), reservation control number, record sequence number, record type, passenger update indicator, traveler reference number, and itinerary information. See the Secure Flight regulations at 49 CFR part 1560.

The CBP trusted traveler programs have been successful in serving international travelers seeking expedited customs and immigration clearance at ports of entry into the United States and at border crossings into Canada or Mexico. The eligibility of these trusted traveler program members for TSA Pre✓™ expedited screening for flights departing from participating U.S. airports also has been beneficial to both these travelers and the TSA. Consistent with DHS efforts to provide trusted traveler programs, TSA is seeking to expand access to TSA Pre✓™ expedited screening to additional trusted travelers who may not want or need expedited customs and immigration clearance at the border, may not have a passport, or may not live in locations convenient to a CBP enrollment site. Thus, TSA is establishing the TSA Pre✓™ Application Program to provide travelers another avenue to obtain KTNs that will make them eligible for TSA Pre✓™.

Members of CBP trusted traveler programs who are U.S. or Canadian citizens will continue to be eligible for TSA Pre✓™ expedited screening. However, those who enroll in the TSA Pre✓™ Application Program will not be able to use Global Entry, NEXUS, or SENTRI for expedited immigration and customs clearance when traveling to or from the United States unless they are already members of these programs.

III. TSA Pre✓™ Application Program

A. Overview

TSA is implementing the TSA Pre✓™ Application Program pursuant to its authority under sec. 109(a)(3) of the Aviation and Transportation Security Act (ATSA), Public Law 107-71 (115 Stat. 597, 613, Nov. 19, 2001, codified at 49 U.S.C. 114 note). That section authorizes TSA to “[e]stablish requirements to implement trusted passenger programs and use available technologies to expedite security screening of passengers who participate in such programs, thereby allowing security screening personnel to focus on those passengers who should be subject to more extensive screening.” Under this program, travelers may be eligible for expedited security screening for air travel through TSA Pre✓™ lanes if they: (1) Voluntarily submit requested biometric and biographic information to TSA; (2) pay the non-refundable program fee that covers TSA's costs for conducting the security threat assessment and adjudicating the application; and (3) meet the standards of the security threat assessment to confirm that they do not pose a threat to transportation or national security.

The security threat assessment includes criminal, immigration, terrorist, and regulatory violation checks. TSA plans to use the criminal disqualifiers listed in statute ⁸ and rulemaking ⁹ for certain transportation workers as a basis for the criminal portion of the check. This includes, but is not limited to, indictments and convictions for crimes such as treason, air piracy, murder, assault with intent to kill, kidnapping, arson, fraud, bomb threats, RICO violations, smuggling, robbery, bribery, distribution of controlled substances, and unlawful use or possession of weapons or explosive devices. For the immigration portion of the check, TSA will verify that the applicant is a U.S. national (which includes U.S. citizens) or legal permanent resident. TSA will review government and international databases to determine whether the applicant has a connection or ties to terrorism, or that indicate he or she poses a threat to transportation or national security. TSA also will review records of regulatory violations to determine whether the applicant has violated regulations related to transportation security, such as interference with screening personnel or flight crew, or unlawfully attempting to carry or carrying a weapon or explosive on board an aircraft.

⁸ See 49 U.S.C. 44936(b) and 46 U.S.C. 70105(c)(1).

⁹ See 49 CFR 1542.209(d), 1572.103(a) through (c), and 1572.107(b).

Eligibility for the TSA Pre✓™ Application Program is within the sole discretion of TSA. TSA will provide individuals who pose a low risk to security with a KTN, which program members may use when making travel reservations. An individual is ineligible for the TSA Pre✓™ Application Program, if TSA at its sole discretion, determines that the individual presents a potential risk for terrorism, has committed certain criminal acts, or is otherwise not a low-risk traveler. Individuals who TSA determines are ineligible for the TSA Pre✓™ Application Program will be notified of their ineligibility in writing and continue to be screened at airport security checkpoints according to TSA standard screening protocols.

Initially, TSA anticipates opening a limited number of enrollment sites at airports and at off-airport locations. TSA will also explore temporary mobile enrollment at corporate offices, conferences, and other venues that choose to provide this service to their personnel or participants. TSA expects to implement the program nationwide.

Those seeking to enroll in the TSA Pre✓™ Application Program will have two options. One option is to begin the application process online by submitting biographic information and then completing the application process by visiting an enrollment center to provide biometric information. A second option is that an individual may complete the entire application process by visiting an enrollment center and providing both the required biographic and biometric information at that time. In both instances the applicant will be required to remit the published fees. TSA will conduct vetting of the applicants in a manner similar to how it vets applicants for a Hazardous Materials Endorsement (HME) and Transportation Worker Identification Credential (TWIC). See 49 CFR parts 1570 and 1572. The required biographic information is similar to that collected for HME and TWIC applicants, which is described in 49 CFR 1572.9 and 1572.17, and includes name, date of birth, gender, height, weight, eye and hair color, address, citizenship/immigration status, and place of birth. Applicants will be required to submit fingerprints in-person at an enrollment center or during a mobile enrollment event. Submission of this biographic and biometric information enables TSA to complete checks on an applicant's criminal history, ties to terrorism and citizenship. TSA will notify the public of the locations of applicable enrollment sites as the program is implemented.

B. Security Threat Assessment

Once an applicant has submitted the required biographical and biometric information and paid the non-refunable fee, TSA will use its existing systems and processes to conduct the security threat assessment. The security threat assessment consists of a criminal history records check (CHRC) and analysis of other government databases, including terrorist watchlists and records of violations of regulatory requirements relating to transportation security. Those persons who have committed security-related regulatory offenses at an airport, airport checkpoint, airport checked baggage area, other airport area, on board an aircraft, or in connection with air cargo will not be eligible. TSA will also conduct an immigration check to confirm eligibility.

Eligibility for the TSA Pre✓™ Application Program is within the sole discretion of TSA, which will notify applicants who are denied eligibility in writing by mail of the reasons for the denial. If initially deemed ineligible, applicants will have an opportunity to correct cases of misidentification or inaccurate criminal or immigration records. Consistent with 28 CFR 50.12 in cases involving criminal records, and before making a final eligibility decision, TSA will advise the applicant that the Federal Bureau of Investigation (FBI) criminal record discloses information that would disqualify him or her from the TSA Pre✓™ Application Program.

Within 30 days after being advised that the criminal record received from the FBI discloses a criminal offense, the applicant must notify TSA in writing of his or her intent to correct any information he or she believes to be inaccurate. If the applicant fails to notify TSA of the intent to correct records, the applicant will likely not be eligible for the program and TSA will send a letter to the applicant explaining this. To successfully correct an inaccurate record, the applicant must provide a certified revised record, or the appropriate court must forward a certified true copy of the information, prior to TSA approving eligibility of the applicant for the TSA Pre✓™ Application Program.

With respect to immigration records, within 30 days after being advised that the immigration records indicate that the applicant is ineligible for the TSA Pre✓™ Application Program, the applicant must notify TSA in writing of his or her intent to correct any information believed to be inaccurate. TSA will review any information submitted and make a final decision. If neither notification nor a corrected record is received by TSA, TSA may make a final determination to deny eligibility. Individuals whom TSA determines are ineligible for the TSA Pre✓™ Application Program will continue to be screened at airport security checkpoints according to TSA standard screening protocols.

IV. Fees

As part of the TSA Pre✓™ Application Program, TSA will conduct security threat assessments on applicants to determine whether they pose a low risk to transportation or national security. TSA will also charge a non-refundable fee to apply for the program. TSA is establishing the TSA Pre✓™ Application Program fee under sec. 540 of the DHS Appropriations Act, 2006, Public Law 109-90 (119 Stat. 2064, 2088-89, Oct. 18, 2005), which states:

For fiscal year 2006 and thereafter, notwithstanding section 553 of title 5, United States Code, the Secretary of Homeland Security shall impose a fee for any registered traveler program undertaken by the Department of Homeland Security by notice in the Federal Register, and may modify the fee from time to time by notice in the Federal Register: Provided, that such fees shall not exceed the aggregate costs associated with the program and shall be credited to the Transportation Security Administration registered traveler fee account, to be available until expended.

A. Fee Standards and Guidelines

The program fee structure described in this notice is designed to fully recover TSA's anticipated costs of the TSA Pre✓™ Application Program. Such a structure will ensure that the costs to administer this program will be recovered from its applicants, in the same way TSA operates other vetting programs. When setting fees for services, TSA adheres to Federal policy, including policy outlined in the Office of Management and Budget Circular A-25 regarding user charges. In summary, the circular provides information regarding the basis upon which user charges are to be established and the implementation of such fees.

B. Fee Components

The fee is comprised of two components, discussed further below: (1) “TSA Fee”; and (2) “FBI Fee.” TSA has identified various activities that will be funded through fees, including: Establishment and operation of a web-based platform for applicants to complete the submission of biographic information; establishment and operation of physical locations for applicants to complete the in-person portion of the enrollment process; construction, maintenance, and operation of the information technology platforms that are used to conduct a security threat assessment; verification of identity and U.S. citizenship or other permissible immigration status; adjudication of the results of the various checks conducted during the vetting process; a CHRC, conducted through the FBI; issuance of a KTN; and overall management and oversight of the program.

To calculate the TSA Pre✓™ Application Program fee with full recovery TSA's anticipated costs of the TSA Pre✓™ Application Program, TSA developed population and cost figures for a five-year period. The five-year period also matches the lifecycle of the program for members, i.e., program members would be eligible for expedited screening for five years, after which they could apply to renew their membership in the program.

Because this program is voluntary and establishes a new security service, TSA could not utilize historical enrollment data or data on a defined industry population to develop estimates. TSA developed an alternative method to estimate the population using three factors based on CBP Global Entry enrollments and usage, as well as the TSA Pre✓™ Application Program rollout strategy. First, CBP records show that of the approximately one million annual Global Entry program applicants who join the program approximately 40 percent (or 400,000) of those program participants have not used the expedited customs and immigration clearance process of Global Entry. One conclusion that may be drawn from this analysis is that some travelers that enroll in Global Entry may be doing so to gain TSA Pre✓™ expedited screening. Second, monthly Global Entry enrollments spiked by an average of 35,000 (or 420,000 annually) once reciprocity was provided between Global Entry and TSA Pre✓™ in October 2011, and this number continues to grow. Third, the initial rollout of the TSA Pre✓™ Application Program will be limited to a few locations with expansion to additional enrollment sites in later months. This rollout will affect the number of travelers who will be able to enroll in the TSA Pre✓™ Application Program during the first year. Considering these three factors, TSA has estimated that the annual average number of applicants who will apply to the TSA Pre✓™ Application Program in the first five years of the program will be 390,000.

The cost estimates used to determine the fee have been developed in accordance with the applicable statutory language, section 540 of the DHS Appropriations Act, 2006, and Office of Management and Budget Circular A-25. Further cost information is provided in the TSA Pre✓™ Application Program Fee Development Report at www.tsa.gov.

TSA will charge a total fee of $85.00 per person to recover fully the cost of this security service.

1. TSA Fee. This fee component is established to fully recover the estimated costs TSA will incur to enroll applicants, process applications including any necessary redress, communicate results, monitor participants, and provide overall program management and oversight. Such activities include costs for personnel, modifications to information technology systems, system redundancy, system integration, helpdesk services, mailings, and general program office management. This fee component is $70.50 and will ensure that each program participant is charged an equitable portion of the cost necessary to operate this program.

2. FBI Fee. This fee component is established to fully recover the cost that the FBI imposes on TSA to conduct a CHRC. As part of the security threat assessment, TSA submits fingerprints to the FBI to obtain any criminal history records that correspond to the fingerprints. The FBI is authorized to establish and collect fees to process fingerprint identification records. See 28 U.S.C. 534 note. This fee is currently set at $14.50. See Notice, FBI Criminal Justice Information Services Division; Revised User Fee Schedule, 76 FR 78950 (Dec. 20, 2011). If the FBI increases or decreases its charge to complete the CHRC, the increase or decrease will apply to this program fee component and the total TSA Pre✓™ Application Program fee on the date that the new FBI fee becomes effective.

TSA will collect the total non-refundable fee of $85.00 per person at the time of application to the program in accordance with TSA-approved payment methods. TSA will not issue fee refunds once vetting services have commenced. Further, TSA will not refund the fee, in whole or in part, to individuals who are not approved for participation in the program based upon the results of TSA's assessment. The TSA Pre✓™ Application Program KTN, and the underlying security threat assessment, are valid for a maximum of five years or until a disqualification occurs. Travelers have the option to renew their enrollment through the TSA Pre✓™ Application Program at the end of the five years by submitting an application and paying the fee.

Dated: November 19, 2013.
John S. Pistole,
Administrator.

[FR Doc. 2013-29007 Filed 12-3-13; 8:45 am]

BILLING CODE 9110-05-P